DEPARTMENT OF DEFENSE

Department of the Air Force

[Docket ID USAF-2013-0012]

Privacy Act of 1974; System of Records

AGENCY: Department of the Air Force, DoD.

ACTION: Notice to delete a System of Records.

SUMMARY: The Department of the Air Force is deleting a system of records notice in its existing inventory of record systems subject to the Privacy Act of 1974 (5 U.S.C. 552a), as amended.

DATES: This proposed action will be effective on April 5, 2013 unless comments are received which result in a contrary determination. Comments will be accepted on or before April 4, 2013.

ADDRESSES: You may submit comments, identified by docket number and title, by any of the following methods:

* Federal Rulemaking Portal: http://www.regulations.gov.

Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Charles J. Shedrick, Department of the Air Force Privacy Office, Air Force Privacy Act Office, Office of Warfighting Integration and Chief Information officer, ATTN: SAF/XCPPI, 1800 Air Force Pentagon, Washington DC 20330-1800 or at 202-404-6575.

SUPPLEMENTARY INFORMATION: The Department of the Air Force systems of records notices subject to the Privacy Act of 1974 (5 U.S.C. 552a), as amended, have been published in the Federal Register and are available from the address in FOR FURTHER INFORMATION CONTACT.

The Department of the Air Force proposes to delete one system of records notice from its inventory of record systems subject to the Privacy Act of 1974 (5 U.S.C. 552a), as amended. The proposed deletion is not within the purview of subsection (r) of the Privacy Act of 1974 (5 U.S.C. 552a), as amended, which requires the submission of a new or altered system report.

Dated: February 28, 2013.
Aaron Siegel,
Alternate OSD Federal Register Liaison Officer, Department of Defense.

Deletion:

F036 AFPC C

System name:

Indebtedness, Nonsupport Paternity (June 11, 1997, 62 FR 31793).

Reason:

Records of this type are no longer maintained by any office within the Air Force Personnel Center (AFPC). Correspondence related to indebtedness, nonsupport of dependents, and paternity is managed by the Unit Commander. Records that document these actions are filed in the Personnel Information File which is covered by Air Force Systems of Records Notice F036 AF PC C, Military Personnel Records System (October 13, 2000, 65 FR 60916). Correspondence regarding garnishment of wages is managed by Defense Finance and Accounting Service (DFAS) and is covered by DFAS Systems of Records Notice T5500b, Integrated Garnishment System (IGS) (September 19, 2012, 77 FR 58106). Paper records previously maintained by AFPC were destroyed by tearing into pieces, shredding, pulping, macerating or burning and electronic records were destroyed by erasing, deleting, or overwriting, in accordance with the National Archives and Records Administration records disposition. Therefore F036 AFPC C, Indebtedness, Nonsupport Paternity (June 11, 1997, 62 FR 31793) can be deleted.

[FR Doc. 2013-05035 Filed 3-4-13; 8:45 am]

BILLING CODE 5001-05-P